DEPARTMENT OF HEALTH AND HUMAN SERVICES

Health Resources and Services Administration

National Advisory Council on the National Health Service Corps Meeting Cancellation

AGENCY: Health Resources and Services Administration; Department of Health and Human Services.

ACTION: Notice of meeting cancellation.

SUMMARY: This is to notify the public that the meeting of the National Advisory Council on the National Health Service Corps (NACNHSC), previously scheduled for September 17, 2019, through September 18, 2019, is cancelled. This meeting was announced in the Federal Register, Vol. 84, No. 87 on Monday, February 25, 2019 (FR Doc. 2019-03180 Filed 2-22-19). Future meetings will occur in calendar year 2020 and be announced through the Federal Register at a later date.

FOR FURTHER INFORMATION CONTACT: Diane Fabiyi-King, Designated Federal Official (DFO), Division of National Health Service Corps, HRSA, 5600 Fishers Lane, Room 14N110, Rockville, Maryland 20857; 301-443-3609; or email: BHWNACNHSC@hrsa.gov.

Maria G. Button,
Director, Division of the Executive Secretariat.

[FR Doc. 2019-18483 Filed 8-27-19; 8:45 am]

BILLING CODE 4165-15-P